DEPARTMENT OF HEALTH AND HUMAN SERVICES

Office of the National Coordinator for Health Information Technology; HIT Policy Committee Meeting

ACTION: Announcement of meeting.

SUMMARY: This notice announces the second meeting of the HIT Policy Committee in accordance with the Federal Advisory Committee Act (Pub. L. 92-463, 5 U.S.C., App.).

DATES: HIT Policy Committee meeting on June 16, 2009, from 10 a.m. to 1 p.m. [Eastern Time].

ADDRESSES: HIT Policy Committee Meeting, Hubert H. Humphrey Building (200 Independence Avenue, SW., Washington, DC 20201), Conference Room 505A. Please bring photo ID for entry to a Federal building.

FOR FURTHER INFORMATION CONTACT: http://healthit.hhs.gov.

SUPPLEMENTARY INFORMATION: The meeting will include presentations from the HIT Policy Committee Workgroups. Space is limited, and seating is on a first-come, first-served basis. The meeting will be available via Web cast. If you have special needs for the meeting, please contact (202) 690-7151.

Dated: June 1, 2009.
Judith Sparrow,
Office of Programs and Coordination, Office of the National Coordinator for Health Information Technology.

[FR Doc. E9-13077 Filed 6-1-09; 4:15 pm]

BILLING CODE 4150-45-P